DEPARTMENT OF TRANSPORTATION

Federal Aviation Administration

Commercial Space Transportation Advisory Committee—Open Meeting

AGENCY: Federal Aviation Administration (FAA), DOT.

ACTION: Notice of Commercial Space Transportation Advisory Committee Open Meeting.

SUMMARY: Pursuant to Section 10(a)(2) of the Federal Advisory Committee Act (Pub. L. 92-463, 5 U.S.C. App. 2), notice is hereby given of a meeting of the Commercial Space Transportation Advisory Committee (COMSTAC). The meeting will take place on Tuesday, December 10, 2013, from 8:00 a.m. to 5:00 p.m., and Wednesday, December 11, from 8:30 a.m. to 2:00 p.m., at the National Housing Center, 1201 15th Street NW., Washington, DC 20005. This will be the 58th meeting of the COMSTAC.

The proposed schedule for the COMSTAC working group meetings on December 10 is below:

—Business/Legal (8:00 a.m.-10:00 a.m.)

—Systems (10:00 a.m.-12:00 p.m.)

—Operations (1:00 p.m.-3:00 p.m.)

—International Space Policy—(3:00 p.m.-5:00 p.m.)

The full Committee will meet on December 11. The meeting will address general issues relevant to the commercial space transportation industry, as well as reports and recommendations from the working groups.

Interested members of the public may submit relevant written statements for the COMSTAC members to consider under the advisory process. Statements may concern the issues and agenda items mentioned above and/or additional issues that may be relevant for the U.S. commercial space transportation industry. Interested parties wishing to submit written statements should contact Larry Scott, (the Contact Person listed below) in writing (mail or email) by November 26, 2013, so that the information can be made available to COMSTAC members for their review and consideration before the December 10 and 11 meetings. Written statements should be supplied in the following formats: One hard copy with original signature and/or one electronic copy (no macros in Microsoft Word doc) via email.

Subject to approval, a portion of the December 11th meeting will be closed to the public (starting at approximately 2:00 p.m.).

An agenda will be posted on the FAA Web site at www.faa.gov/go/ast.

Individuals who plan to attend and need special assistance, such as sign language interpretation or other reasonable accommodations, should inform the Contact Persons listed below in advance of the meeting.

FOR FURTHER INFORMATION CONTACT: Larry Scott, telephone (202) 267-7982; email larry.scott@faa.gov, FAA Office of Commercial Space Transportation (AST-3), 800 Independence Avenue SW., Room 331, Washington, DC 20591.

Complete information regarding COMSTAC is available on the FAA Web site at: http://www.faa.gov/about/office_org/headquarters_offices/ast/advisory_committee/.

Issued in Washington, DC, November 8, 2013.
George C. Nield,
Associate Administrator for Commercial Space Transportation.

[FR Doc. 2013-27691 Filed 11-19-13; 8:45 am]

BILLING CODE 4910-13-P